ENVIRONMENTAL PROTECTION AGENCY

40 CFR Part 52

[MD200-3116; FRL-8021-7]

Approval and Promulgation of Air Quality Implementation Plans; Maryland; Update to Materials Incorporated by Reference

AGENCY: Environmental Protection Agency (EPA).

ACTION: Final rule; Notice of administrative change.

SUMMARY: EPA is updating the materials submitted by Maryland that are incorporated by reference (IBR) into the State implementation plan (SIP). The regulations affected by this update have been previously submitted by the State agency, the Maryland Department of the Environment, and approved by EPA. This update affects the SIP materials that are available for public inspection at the National Archives and Records Administration (NARA), the Air and Radiation Docket and Information Center located at EPA Headquarters in Washington, DC and the Regional Office.

EFFECTIVE DATE: This action is effective February 2, 2006.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the State can revise as necessary to address the unique air pollution problems. Therefore, EPA from time to time must take action on SIP revisions containing new and/or revised regulations as being part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On November 29, 2004 (69 FR 69304), EPA published a Federal Register beginning the new IBR procedure for Maryland. In this document, EPA is doing the following:

1. Announcing the update to the IBR material as of December 15, 2005.

2. Making corrections to entries listed in the paragraph 52.1070(c) chart, as described below:

a. COMAR 26.11.04—The chapter title is revised.

b. COMAR 26.11.09—The text for COMAR 26.11.09.01, 26.11.09.03, 26.11.09.06 and 26.11.09.08 in the “Additional explanation/citation at 40 CFR 52.1100” column is revised.

c. COMAR 26.11.17—The text for COMAR 26.11.17.01 and 26.11.17.03 in the “Additional explanation/citation at 40 CFR 52.1100” column is revised.

d. COMAR 26.11.19—The text for COMAR 26.11.19.17 in the “Additional explanation/citation at 40 CFR 52.1100” column is removed.

e. COMAR 26.11.25—The abbreviation “COMAR” in the “Code of Maryland administrative regulations (COMAR) citation'' column is removed; the regulation titles for COMAR 26.11.25.03 and 26.11.25.04 in the “Title/subject” column are revised.

f. COMAR 11.14.08.22—The regulation title in the “Title/subject” column is revised.

g. COMAR 03.03.06.05—The regulation title in the “Title/subject” column is revised.

EPA has determined that today's rule falls under the “good cause” exemption in section 553(b)(3)(B) of the Administrative Procedures Act (APA) which, upon finding “good cause,” authorizes agencies to dispense with public participation, and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 99 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Maryland SIP compilations had previously afforded interested parties the opportunity to file a petition for judicial review in the United States Court of Appeals for the appropriate circuit within 60 days of such rulemaking action. Thus, EPA sees no need in this action to reopen the 60-day period for filing such petitions for judicial review for this “Identification of plan” reorganization update action for Maryland.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 9, 2006.
Donald S. Welsh,
Regional Administrator, Region III.

40 CFR part 52 is amended as follows:

PART 52—[AMENDED]

1. The authority for citation for part 52 continues to read as follows:

Authority: 42. U.S.C. 7401 et seq.

Subpart V—Maryland

2. Section 52.1070 is amended by revising paragraphs (b) and (c) to read as follows:

§ 52.1070 Identification of plan.

* * * * *

(b) Incorporation by reference. (1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after December 15, 2005, will be incorporated by reference in the next update to the SIP compilation.

(2) EPA Region III certifies that the rules/regulations provided by EPA at the addresses in paragraph (b)(3) of this section are an exact duplicate of the officially promulgated State rules/regulations which have been approved as part of the State implementation plan as of December 15, 2005.

(3) Copies of the materials incorporated by reference may be inspected at the EPA Region III Office at 1650 Arch Street, Philadelphia, PA 19103; the EPA, Air and Radiation Docket and Information Center, Air Docket (6102), 1301 Constitution Avenue, NW., Room B108, Washington, DC 20460; or at the National Archives and Records Administration (NARA). For information on the availability of this material at NARA, call 202-741-6030, or go to: http://www.archives.gov/federal_register/code_of_federal_regulations/ibr_locations.html.

(c) EPA approved regulations.

EPA-Approved Regulations in the Maryland SIP
Code of Maryland administrative regulations (COMAR) citation | Title/subject | State effective date | EPA approval date | Additional explanation/citation at 40 CFR 52.1100
26.11.01 General Administrative Provisions
26.11.01.01A., .01B Exceptions: .01B(3), (13), (21) through (23), (25) | Definitions | 10/10/01 | 5/28/02, 67 FR 36810 | (c)(171); Additional EPA approvals are codified at §§ 52.1100(c)(119) (c)(122), (c)(143), (c)(148), (c)(158), (c)(159), and (c)(164).
26.11.01.01B(53) | Definitions—definition of volatile organic compound (VOC) | 11/24/03 | 3/30/05, 70 FR 16122 | Definition reflects the version of 40 CFR 51.100(s) in effect as of 12/31/2002.
26.11.01.02 | Relationship of Provisions in this Subtitle | 8/1/88 | 11/3/92, 57 FR 49651 | (c)(90)(i)(B)(1).
26.11.01.03 | Delineation of Areas | 8/1/88 | 11/3/92, 57 FR 49651 | (c)(90)(i)(B)(1).
26.11.01.04 | Testing and Monitoring | 2/17/92 | 9/7/01, 66 FR 46727 | (c)(153).
26.11.01.05 | Records and Information | 6/30/97 12/10/01 | 5/28/02, 67 FR 36810 | (c)(172).
26.11.01.05-1 | Emission Statements | 12/7/92 | 10/12/94, 59 FR 51517 | (c)(109).
26.11.01.06 | Circumvention | 8/1/88 | 11/3/92, 57 FR 49651 | (c)(90)(i)(B)(1).
26.11.01.07 | Malfunctions and Other Temporary Increases in Emissions | 8/1/88 | 11/3/92, 57 FR 49651 | (c)(90)(i)(B)(1).
26.11.01.08 | Determination of Ground Level Concentrations—Acceptable Techniques | 8/1/88 | 11/3/92, 57 FR 49651 | (c)(90)(i)(B)(5).
26.11.01.09 | Vapor Pressure of Gasoline | 8/1/88 | 11/3/92, 57 FR 49651 | (c)(90)(i)(B)(5).
26.11.01.10 | Continuous Emission Monitoring (CEM) Requirements | 7/22/91 | 2/28/96, 61 FR 7418 | (c)(106);TM90-01 was approved as “additional material”, but not IBR'd.
26.11.02 Permits, Approvals, and Registration
26.11.02.01 | Definitions | 5/8/95 | 2/27/03, 68 FR 9012 | (c)(182); Exceptions: 26.11.02.01B(1), (1-1), (4)-(6), (10), (15), (16), (22), (29)-(33), (37), (39), (42), (46), (49), (50), (54).
26.11.02.02 | General Provisions | 5/8/95 | 2/27/03, 68 FR 9012 | (c)(182); Exception: .02D.
26.11.02.03 | Federally Enforceable Permits to Construct and State Permits to Operate | 5/8/95 | 2/27/03 68 FR 9012 | (c)(182).
26.11.02.04 | Duration of Permits | 5/8/95 | 2/27/03, 68 FR 9012 | (c)(182); Exception: .04C(2).
26.11.02.05 | Violation of Permits and Approvals | 5/8/95 | 2/27/03, 68 FR 9012 | (c)(182).
26.11.02.06 | Denial of Applications for State Permits and Approvals | 5/8/95 6/16/97 | 2/27/03, 68 FR 9012 | (c)(182).
26.11.02.07 | Procedures for Denying, Revoking, or Reopening and Revising a Permit or Approval | 5/8/95 | 2/27/03, 68 FR 9012 | (c)(182).
26.11.02.08 | Late Applications and Delays in Acting on Applications | 5/8/95 | 2/27/03, 68 FR 9012 | (c)(182).
26.11.02.09 | Sources Subject to Permits to Construct and Approvals | 5/8/95 5/4/98 | 2/27/03, 68 FR 9012 | (c)(182).
26.11.02.10 | Sources Exempt from Permits to Construct and Approvals | 5/8/95, 6/16/97 9/22/97 3/22/99 | 2/27/03, 68 FR 9012 | (c)(182).
26.11.02.11 | Procedures for Obtaining Permits to Construct Certain Significant Sources | 5/8/95 6/16/97 | 2/27/03, 68 FR 9012 | (c)(182); Exception: .11C.
26.11.02.12 | Procedures for Obtaining Approvals of PSD Sources and NSR Sources, Permits to Construct, Permits to Construct MACT Determinations on a Case-by-Case Basis in Accordance with 40 CFR Part 63, Subpart B, and Certain 100-Ton Sources | 5/8/95 | 2/27/03, 68 FR 9012 | (c)(182).
26.11.02.13 | Sources subject to State Permits to Operate | 5/8/95 | 2/27/03, 68 FR 9012 | (c)(182).
26.11.02.14 | Procedures for Obtaining State Permits to Operate and Permits to Construct Certain Sources and Permits to Construct Control Equipment on Existing Sources | 5/8/95 6/16/97 | 2/27/03, 68 FR 9012 | (c)(182).
26.11.04 Ambient Air Quality Standards
26.11.04.02 | State-Adopted National Ambient Air Quality Standards | 5/8/95 | 8/20/01, 66 FR 43485 | (c)(165).
26.11.04.03 | Definitions, Reference Conditions, and Methods of Measurement | 2/21/89 | 2/24/94, 59 FR 8865 | (c)(99).
26.11.04.04 | Particulate Matter | 2/21/89 | 2/24/94, 59 FR 8865 | (c)(99).
26.11.04.05 | Sulfur Oxides | 8/1/88 | 11/3/92, 57 FR 49651 | (c)(90)(i)(B)(3).
26.11.04.06 | Carbon Monoxide | ¹1/5/88 | 4/7/93, 58 FR 18010 | (c)(92).
26.11.04.07 | Ozone | 8/1/88 | 11/3/92, 57 FR 49651 | (c)(90)(i)(B)(3).
26.11.04.08 | Nitrogen Dioxide | 8/1/88 | 11/3/92, 57 FR 49651 | (c)(90)(i)(B)(3).
26.11.04.09 | Lead | 8/1/88 | 11/3/92, 57 FR 49651 | (c)(90)(i)(B)(3).
26.11.05 Air Quality Episode System
26.11.05.01 | Definitions | 6/18/90 | 4/14/94, 59 FR 17698 | (c)(100).
26.11.05.02 | General Requirements | 6/18/90 | 4/14/94, 59 FR 17698 | (c)(100).
26.11.05.03 | Air Pollution Episode Criteria | 6/18/90 | 4/14/94, 59 FR 17698 | (c)(100).
26.11.05.04 | Standby Emissions Reduction Plan | 8/1/88 | 11/3/92, 57 FR 49651 | (c)(90)(i)(B)(4).
26.11.05.05 | Control Requirements and Standby Orders | 6/18/90 | 4/14/94, 59 FR 17698 | (c)(100).
26.11.05.06 | Tables | 8/1/88 | 11/3/92, 57 FR 49651 | (c)(90)(i)(B)(4).
26.11.06 General Emissions Standards, Prohibitions, and Restrictions
26.11.06.01 | Definitions | 5/8/91 | 11/29/94, 59 FR 60908 | (c)(102)(i)(B)(14).
26.11.06.02 | Visible Emissions | 11/11/02 | 8/6/03, 68 FR 46487 | (c)(181).
[Except:.02A(1)(e), (1)(g), (1)(h), (1)(i)]
26.11.06.03 | Particulate Matter | 11/11/02 | 8/6/03, 68 FR 46487 | (c)(181).
26.11.06.04 | Carbon Monoxide in Areas III and IV | ¹1/5/88 | 4/7/93, 58 FR 18010 | (c)(92).
26.11.06.05 | Sulfur Compounds from Other than Fuel Burning Equipment | 11/11/02 | 8/6/03, 68 FR 46487 | (c)(181).
26.11.06.06 | Volatile Organic Compounds | 9/22/97 | 5/7/01, 66 FR 22924 | (c)(156); Note: On 2/27/03 (68 FR 9012), EPA approved a revised rule citation with a State effective date of 5/8/95 [(c)(182)(i)(C)].
26.11.06.10 | Refuse Burning Prohibited in Certain Installations | 8/1/88 | 11/3/92, 57 FR 49651 | (c)(90)(i)(B)(5).
26.11.06.14 | Control of PSD sources | 10/10/01 | 5/28/02, 67 FR 36810 | (c)(171).
26.11.06.15 | Nitrogen Oxides from Nitric Acid Plants | 8/1/88 | 11/3/92, 57 FR 49651 | (c)(90)(i)(B)(5).
26.11.06.16 | Tables | 8/1/88 | 11/3/92, 57 FR 49651 | (c)(90)(i)(B)(5).
26.11.07 Open Fires
26.11.07.01 | Definitions | 5/22/95 | 6/11/02, 67 FR 39856 | (c)(173).
26.11.07.02 | General | 5/22/95 | 2/25/97, 62 FR 8380 | (c)(120).
26.11.07.03 | Control Officer May Authorize Certain Open Fires | 8/11/97 | 6/11/02, 67 FR 39856 | (c)(173).
26.11.07.04 | Public Officers May Authorize Certain Fires | 5/22/95 | 2/25/97, 62 FR 8380 | (c)(120).
26.11.07.05 | Open Fires Allowed Without Authorization of Control Officer or Public Officer | 5/22/95 | 2/25/97, 62 FR 8380 | (c)(120) .05A(3) & (4), and .05B(3) are State-enforceable only.
26.11.07.06 | Safety Determinations at Federal Facilities | 8/11/97 | 6/11/02, 67 FR 39856 | (c)(173).
10.18.08 Control of Incinerators
10.18.08.01 | Definitions | 3/25/84 | 7/2/85, 50 FR 27245 | (c)(82).
10.18.08.02 | Applicability | 7/18/80 | 8/5/81, 46 FR 39818 | (c)(45).
10.18.08.03 | Prohibition of Certain Incinerators in Areas III and IV | 6/8/81 | 5/11/82, 47 FR 20126 | (c)(58).
10.18.08.04 | Visible Emissions | 3/25/84 | 7/2/85, 50 FR 27245 | (c)(82).
10.18.08.05 | Particulate Matter | 3/25/84 | 7/2/85, 50 FR 27245 | (c)(82).
10.18.08.06 | Prohibition of Unapproved Hazardous Waste Incinerators | 3/25/84 | 7/2/85, 50 FR 27245 | (c)(82).
26.11.09 Control of Fuel Burning Equipment and Stationary Internal Combustion Engines, and Certain Fuel-Burning Installations
26.11.09.01 | Definitions | 6/21/04 | 7/6/05, 70 FR 38774 | Revised definition of “fuel” in 26.11.09.01B(2-1)(a).
26.11.09.02 | Applicability | 8/1/88 | 11/3/92, 57 FR 49651 | (c)(90)(i)(B)(7).
26.11.09.03 | General Conditions for Fuel Burning Equipment | 6/21/04 | 7/6/05, 70 FR 38774 | Revised paragraphs 26.11.09.03C(1) and .03C(2).
26.11.09.04 | Prohibition of Certain New Fuel Burning Equipment | 8/1/88 | 11/3/92, 57 FR 49651 | (c)(90)(i)(B)(7).
26.11.09.05 | Visible Emissions | 11/11/02 | 5/1/03, 68 FR 23206 | (c)(183).
26.11.09.06 | Control of Particulate Matter | 6/21/04 | 7/6/05, 70 FR 38774 | Addition of paragraph 26.11.09.06C.
26.11.09.07 | Control of Sulfur Oxides from Fuel Burning Equipment | 8/1/88 | 11/3/92, 57 FR 49651 | (c)(90)(i)(B)(7).
26.11.09.08 | Control of NOX Emissions for Major Stationary Sources | 11/24/03 | 9/20/04, 69 FR 56170 | (c)(191).
26.11.09.09 | Tables and Diagrams | 11/11/02 | 5/1/03, 68 FR 23206 | (c)(183); Revised Table 1.
26.11.10 Control of Iron and Steel Production Installations
26.11.10.01 | Definitions | 12/25/00 | 11/7/01, 66 FR 56222 | (c)(163).
26.11.10.02 | Applicability | 11/2/98 | 9/7/01, 66 FR 46727 | (c)(153).
26.11.10.03 | Visible Emissions | 11/2/98 | 9/7/01, 66 FR 46727 | (c)(153).
26.11.10.04 | Control of Particulate Matter | 11/2/98 | 9/7/01, 66 FR 46727 | (c)(153).
26.11.10.05 | Sulfur Content Limitations for Coke Oven Gas | 11/2/98 | 9/7/01, 66 FR 46727 | (c)(153).
26.11.10.06[1] | Control of Volatile Organic Compounds from Iron and Steel Production Installations | 12/25/00 | 11/7/01, 66 FR 56222 | (c)(163).
26.11.10.06[2] | Carbon Monoxide | 8/1/88 | 11/3/92, 57 FR 49651 | (c)(90)(i)(B)(8).
26.11.10.07 | Testing and Observation Procedures | 12/25/00 | 11/7/01, 66 FR 56222 | (c)(163).
26.11.11 Control of Petroleum Products Installations, Including Asphalt Paving, Asphalt Concrete Plants, and Use of Waste Oils
26.11.11.01 | Applicability | 8/1/88 | 11/3/92, 57 FR 49651 | (c)(90)(i)(B)(9).
26.11.11.02 | Asphalt Paving | 4/26/93 | 1/6/95, 60 FR 2018 | (c)(113)(i)(B)(1).
26.11.11.03 | Asphalt Concrete Plants in Areas I, II, V, and VI | 8/1/88 | 11/3/92, 57 FR 49651 | (c)(90)(i)(B)(9).
26.11.11.06 | Use of Waste Oils as Fuel | 8/1/88 | 11/3/92, 57 FR 49651 | (c)(90)(i)(B)(9).
26.11.12 Control of Batch Type Hot-Dip Galvanizing Installations
26.11.12.01 | Definitions | 5/8/95 | 7/25/00, 64 FR 45743 | (c)(149).
26.11.12.02 | Applicability | 5/8/95 | 7/25/00, 64 FR 45743 | (c)(149).
26.11.12.03 | Prohibitions and Exemptions | 5/8/95 | 7/25/00, 64 FR 45743 | (c)(149).
26.11.12.04 | Visible Emissions | 8/1/88 | 11/3/92, 57 FR 49651 | (c)(90)(i)(B)(10).
26.11.12.05 | Particulate Matter | 8/1/88 | 11/3/92, 57 FR 49651 | (c)(90)(i)(B)(10).
26.11.12.06 | Reporting Requirements | 8/1/88 | 11/3/92, 57 FR 49651 | (c)(90)(i)(B)(10).
26.11.13 Control of Gasoline and Other Volatile Organic Compound Storage and Handling
26.11.13.01 | Definitions | 8/11/97 | 12/22/98, 63 FR 70667 | (c)(130).
26.11.13.02 | Applicability and Exemption | 4/26/93 | 1/6/95, 60 FR 2018 | (c)(113)(i)(B)(3).
26.11.13.03 | Large Storage Tanks | 8/1/88 | 11/3/92, 57 FR 49651 | (c)(90)(i)(B)(12).
26.11.13.04 | Loading Operations | 8/11/97 | 12/22/98, 63 FR 70667 | (c)(132).
26.11.13.05 | Gasoline Leaks from Tank Trucks | 2/15/93 | 1/6/95, 60 FR 2018 | (c)(112).
26.11.13.06 | Plans for Compliance | 4/26/93 | 1/6/95, 60 FR 2018 | (c)(113)(i)(B)(5).
26.11.13.07 | Control of VOC Emissions from Portable Fuel Containers | 1/21/02 | 6/29/04, 69 FR 38848 | (c)(184).
26.11.14 Control of Emissions From Kraft Pulp Mills
26.11.14.01 | Definitions | 1/8/01 10/15/01 | 11/7/01, 66 FR 56220 | (c)(170).
26.11.14.02 | Applicability | 1/8/01 | 11/7/01, 66 FR 56220 | (c)(170).
26.11.14.06 | Control of Volatile Organic Compounds | 1/8/01 10/15/01 | 11/7/01, 66 FR 56220 | (c)(170).
26.11.17 Requirements for Major New Sources and Modifications
26.11.17.01 | Definitions | 11/24/03 | 9/20/04, 69 FR 56170 | 52.1070(c)(191).
26.11.17.02 | Applicability | 4/26/93 10/2/00 | 2/12/01, 66 FR 9766 | 52.1070(c)(148).
26.11.17.03 | General Conditions | 4/26/93 10/2/00 | 2/12/01, 66 FR 9766 | 52.1070(c)(191).
26.11.17.04 | Baseline for Determining Credit for Emission and Air Quality Offsets | 4/26/93 10/2/00 | 2/12/01, 66 FR 9766 | 52.1070(c)(148).
26.11.17.05 | Administrative Procedures | 4/26/93 10/2/00 | 2/12/01, 66 FR 9766 | 52.1070(c)(148).
26.11.19 Volatile Organic Compounds From Specific Processes
26.11.19.01 | Definitions | 6/5/95 | 9/2/97, 62 FR 46199 | (c)(126); Note: On 5/13/1998 (63 FR 26462), EPA approved the revised definition of “major stationary source of VOC” with a State effective date of 5/8/1995 [(c)(128)].
26.11.19.02 | Applicability, Determining Compliance, Reporting, and General Requirements | 5/4/98 12/10/01 | 2/3/03, 68 FR 5228 | (c)(174), (c)(175) 1. Limited approval of paragraph .02G (9/4/98, 63 FR 47174) [(c)(131)-(c)(133)] 2. On 2/27/03 (68 FR 9012), EPA approved a revised rule citation with a State effective date of 5/8/95 [(c)(182)(i)(D)].
26.11.19.03 | Automotive and Light-Duty Truck Coating | 9/22/97 | 11/5/98, 63 FR 59720 | (c)(140).
26.11.19.04 | Can Coating | 8/1/88 | 11/3/92, 57 FR 49651 | (C)(90)(i)(B)(12).
26.11.19.05 | Coil Coating | 8/1/88 | 11/3/92, 57 FR 49651 | (C)(90)(i)(B)(12).
26.11.19.06 | Large Appliance Coating | 8/1/88 | 11/3/92, 57 FR 49651 | (C)(90)(i)(B)(12).
26.11.19.07 | Paper, Fabric, Vinyl and Other Plastic Parts Coating | 8/24/98 | 1/14/2000, 64 FR 2334 | (c)(147).
26.11.19.07-1 | Control of VOC Emissions from solid Resin Decorative Surface Manufacturing | 6/15/98 | 6/17/99, 64 FR 32415 | (c)(142).
26.11.19.08 | Metal Furniture Coating | 8/1/88 | 11/3/92, 57 FR 49651 | (C)(90)(i)(B)(12).
26.11.19.09 | Control of Volatile Organic Compounds (VOC) Emissions from cold and Vapor Degreasing | 6/5/95 | 8/4/97, 62 FR 41853 | (c)(123).
26.11.19.10 | Flexographic and Rotogravure Printing | 6/5/95 | 9/2/97, 62 FR 46199 | (c)(126).
26.11.19.11 | Control of Volatile Organic Compounds (VOC) Emissions from Sheet-Fed and Web Lithographic Printing | 6/5/95 | 9/2/97, 62 FR 46199 | (c)(126).
26.11.19.12 | Dry Cleaning Installations | 9/22/97 | 9/2/98, 63 FR 46662 | (c)(131).
26.11.19.13 | Miscellaneous Metal Coating | 5/8/91 | 11/29/94, 59 FR 60908 | (c)(102)(i)(B)(6).
26.11.19.13-1 | Aerospace Coating Operations | 10/2/00 10/15/01 | 11/7/01, 66 FR 56220 | (c)(169).
26.11.19.13-2 | Control of VOC Emissions from Brake Shoe Coating Operations | 8/24/98 | 6/17/99, 64 FR 32415 | (c)(142).
26.11.19.13-3 | Control of VOC Emissions from Structural Steel Coating Operations | 6/29/98 | 6/17/99, 64 FR 32415 | (c)(142).
26.11.19.14 | Manufacture of Synthesized Pharmaceutical Products | 5/8/91 | 11/29/94, 59 FR 60908 | (c)(102)(i)(B)(14).
26.11.19.15 | Paint, Resin, and Adhesive Manufacturing and Adhesive Application | 5/4/98 3/22/99 | 10/28/99, 64 FR 57989 | (c)(145).
26.11.19.16 | Control of VOC Equipment Leaks | 8/19/91 | 9/7/94, 59 FR 46180 | (c)(103)(i)(B)(9).
26.11.19.17 | Control of Volatile Organic Compounds (VOC) Emissions from Yeast Manufacturing | 6/21/04 | 10/27/04, 69 FR 62589 |
26.11.19.18 | Control of Volatile Organic Compounds (VOC) Emissions from Screen Printing and Digital Imaging | 6/10/02 | 1/15/03, 68 FR 1972 | (c)(177).
26.11.19.19 | Control of Volatile Organic Compounds (VOC) Emissions from Expandable Polystyrene Operations | 10/2/00 | 5/7/01, 66 FR 22924 | (c)(156).
26.11.19.21 | Control of Volatile Organic Compounds (VOC) Emissions from Commercial Bakery Ovens | 7/3/95 | 10/15/97, 62 FR 53544 | (c)(125)(i)(B)(4).
26.11.19.22 | Control of Volatile Organic Compounds (VOC) Emissions from Vinegar Generators | 8/11/97 | 9/23/99, 64 FR 41445 | (c)(137).
26.11.19.23 | Control of Volatile Organic Compounds (VOC) Emissions from Vehicle Refinishing | 5/22/95 | 8/4/97, 62 FR 41853 | (c)(124).
26.11.19.24 | Control of Volatile Organic Compounds (VOC) Emissions from Leather Coating Operations | 8/11/97 | 9/23/99, 64 FR 41445 | (c)(137).
26.11.19.25 | Control of Volatile Organic Compounds from Explosives and Propellant Manufacturing | 8/11/97 | 1/26/99, 64 FR 3852 | (c)(141).
26.11.19.26 | Control of Volatile Organic Compound Emissions from Reinforced Plastic Manufacturing | 8/11/97 | 8/19/99, 64 FR 45182 | (c)(139).
26.11.19.27 | Control of Volatile Organic Compounds from Marine Vessel Coating Operations | 10/20/97 | 9/5/01, 66 FR 46379 | (c)(166).
26.11.19.28 | Control of Volatile Organic Compounds from Bread and Snack Food Drying Operations | 10/2/00 | 5/7/01, 66 FR 22924 | (c)(157).
26.11.19.29 | Control of Volatile Organic Compounds from Distilled Spirits Facilities | 10/2/00 10/15/01 | 11/7/01, 66 FR 56220 | (c)(160).
26.11.19.30 | Control of Volatile Organic Compounds from Organic Chemical Production and Polytetrafluoroethylene Installations | 12/10/01 11/11/02 | 6/3/03, 68 FR 33000 | (c)(176).
26.11.20 Mobile Sources
26.11.20.02 | Motor Vehicle Emission Control Devices | 8/1/88 | 11/3/92, 57 FR 49651 | (c)(90)(i)(B)(13), [as 26.11.20.06].
26.11.20.03 | Motor Vehicle Fuel Specifications | 10/26/92 | 6/10/94, 59 FR 29957 | (c)(101)(i)(B)(3).
26.11.20.04 | National Low Emission Vehicle Program | 3/22/99 | 12/28/99, 64 FR 72564 | (c)(146).
26.11.24 Stage II Vapor Recovery at Gasoline Dispensing Facilities
26.11.24.01 | Definitions | 4/15/02 | 5/7/03, 68 FR 24363 | (c)(178).
26.11.24.01-1 | Incorporation by Reference | 4/15/02 | 5/7/03, 68 FR 24363 | (c)(178).
26.11.24.02 | Applicability, Exemptions, and Effective Date | 4/15/02 | 5/7/03, 68 FR 24363 | (c)(178).
26.11.24.03 | General Requirements | 4/15/02 | 5/7/03, 68 FR 24363 | (c)(178).
26.11.24.04 | Testing Requirements | 4/15/02 | 5/7/03, 68 FR 24363 | (c)(178).
26.11.24.05 | Inspection Requirements | 2/15/93 | 6/9/94, 59 FR 29730 | (c)(107).
26.11.24.06 | Training Requirements for Operation and Maintenance of Approved Systems | 2/15/93 | 6/9/94, 59 FR 29730 | (c)(107).
26.11.24.07 | Recordkeeping and Reporting Requirements | 4/15/02 | 5/7/03, 68 FR 24363 | (c)(178).
26.11.24.08 | Instructional Signs | 2/15/93 | 6/9/94, 59 FR 29730 | (c)(107).
26.11.24.09 | Sanctions | 2/15/93 | 6/9/94, 59 FR 29730 | (c)(107).
26.11.25 Control of Glass Melting Furnaces
26.11.25.01 | Definitions | 10/5/98 | 10/19/05, 70 FR 60738
26.11.25.02 | Applicability and Exemptions | 10/5/98 | 10/19/05, 70 FR 60738
26.11.25.03 | Visible Emissions from Glass Melting Furnaces | 10/5/98 | 10/19/05, 70 FR 60738
26.11.25.04 | Particulate Matter Emissions from Glass Melting Furnaces | 10/5/98 | 10/19/05, 70 FR 60738
26.11.26 Conformity
26.11.26.01 | Definitions | 5/15/95 6/5/95 | 12/9/98, 63 FR 67782 | (c)(136); definitions of Applicable implementation plan, Governor, State, and State air agency.
26.11.26.03 | General Conformity | 5/15/95 6/5/95 | 12/9/98, 63 FR 67782 | (c)(136); current COMAR citation is 26.11.26.04.
26.11.29 NOX Reduction and Trading Program
26.11.29.01 | Definitions | 5/1/00 | 1/10/01, 66 FR 1866 | (c)(154)(i)(B)(1).
26.11.29.02 | Incorporation by Reference | 5/1/00 | 1/10/01, 66 FR 1866 | (c)(154)(i)(B)(1).
26.11.29.03 | Scope and Applicability | 5/1/00 | 1/10/01, 66 FR 1866 | (c)(154)(i)(B)(1).
26.11.29.04 | General Requirements for Affected Trading Sources | 5/1/00 | 1/10/01, 66 FR 1866 | (c)(154)(i)(B)(1).
26.11.29.05 | NOX Allowance Allocations | 5/1/00 | 1/10/01, 66 FR 1866 | (c)(154)(i)(B)(1).
26.11.29.06 | Compliance Supplement Pool | 5/1/00 | 1/10/01, 66 FR 1866 | (c)(154)(i)(B)(1).
26.11.29.07 | Allowance Banking | 5/1/00 | 1/10/01, 66 FR 1866 | (c)(154)(i)(B)(1).
26.11.29.08 | Emission Monitoring | 5/1/00 | 1/10/01, 66 FR 1866 | (c)(154)(i)(B)(1).
26.11.29.09 | Requirements for New Sources and Set-Aside Pool | 11/24/03 | 3/22/04, 69 FR 13236 | (c)(184)(i)(C)(1)-(5).
26.11.29.10 | Reporting | 5/1/00 | 1/10/01, 66 FR 1866 | (c)(154)(i)(B)(1).
26.11.29.11 | Recordkeeping | 5/1/00 | 1/10/01, 66 FR 1866 | (c)(154)(i)(B)(1).
26.11.29.12 | End-of-Season Reconciliation | 5/1/00 | 1/10/01, 66 FR 1866 | (c)(154)(i)(B)(1).
26.11.29.13 | Compliance Certification | 5/1/00 | 1/10/01, 66 FR 1866 | (c)(154)(i)(B)(1).
26.11.29.14 | Penalties | 5/1/00 | 1/10/01, 66 FR 1866 | (c)(154)(i)(B)(1).
26.11.29.15 | Requirements for Affected Nontrading Sources | 5/1/00 | 1/10/01, 66 FR 1866 | (c)(154)(i)(B)(1).
26.11.30 Policies and Procedures Relating to Maryland's NOX Reduction and Trading Program
26.11.30.01 | Scope and Applicability | 5/1/00 | 1/10/01, 66 FR 1866 | (c)(154)(i)(B)(2).
26.11.30.02 | Definitions | 5/1/00 | 1/10/01, 66 FR 1866 | (c)(154)(i)(B)(2).
26.11.30.03 | Procedures Relating to Compliance Accounts and Overdraft Accounts | 5/1/00 | 1/10/01, 66 FR 1866 | (c)(154)(i)(B)(2).
26.11.30.04 | Procedures Relating to General Accounts | 5/1/00 | 1/10/01, 66 FR 1866 | (c)(154)(i)(B)(2).
26.11.30.05 | Allowance Banking | 5/1/00 | 1/10/01, 66 FR 1866 | (c)(154)(i)(B)(2).
26.11.30.06 | Allowance Transfers | 5/1/00 | 1/10/01, 66 FR 1866 | (c)(154)(i)(B)(2).
26.11.30.07 | Early Reductions | 5/1/00 | 1/10/01, 66 FR 1866 | (c)(154)(i)(B)(2).
26.11.30.08 | Opt-In Procedures | 5/1/00 | 1/10/01, 66 FR 1866 | (c)(154)(i)(B)(2).
26.11.30.09 | Allocation of Allowances | 11/24/03 | 3/22/04, 69 FR 13236 | (c)(184)(i)(A)(1)-(3).
26.11.32 Control of Emissions of Volatile Organic Compounds From Consumer Products
26.11.32.01 | Applicability and Exemptions | 8/18/03 | 12/9/03, 68 FR 68523 | (c)(185).
26.11.32.02 | Incorporation by Reference | 8/18/03 | 12/9/03 68 FR 68523 | (c)(185).
26.11.32.03 | Definitions | 8/18/03 | 12/9/03, 68 FR 68523 | (c)(185).
26.11.32.04 | Standards—General | 8/18/03 | 12/9/03, 68 FR 68523 | (c)(185).
26.11.32.05 | Standards—Requirements for Charcoal Lighter Materials | 8/18/03 | 12/9/03, 68 FR 68523 | (c)(185).
26.11.32.06 | Standards—Requirements for Aerosol Adhesives | 8/18/03 | 12/9/03, 68 FR 68523 | (c)(185).
26.11.32.07 | Standards—Requirements for Floor Wax Strippers | 8/18/03 | 12/9/03, 68 FR 68523 | (c)(185).
26.11.32.08 | Innovative Products—CARB Exemption | 8/18/03 | 12/9/03, 68 FR 68523 | (c)(185).
26.11.32.09 | Innovative Products—Department Exemption | 8/18/03 | 12/9/03, 68 FR 68523 | (c)(185).
26.11.32.10 | Administrative Requirements | 8/18/03 | 12/9/03, 68 FR 68523 | (c)(185).
26.11.32.11 | Reporting Requirements | 8/18/03 | 12/9/03, 68 FR 68523 | (c)(185).
26.11.32.12 | Variances | 8/18/03 | 12/9/03, 68 FR 68523 | (c)(185).
26.11.32.13 | Test Methods | 8/18/03 | 12/9/03, 68 FR 68523 | (c)(185).
26.11.32.14 | Alternative Control Plan (ACP) | 8/18/03 | 12/9/03, 68 FR 68523 | (c)(185).
26.11.32.15 | Approval of an ACP Application | 8/18/03 | 12/9/03, 68 FR 68523 | (c)(185).
26.11.32.16 | Record keeping and Availability of Requested Information | 8/18/03 | 12/9/03, 68 FR 68523 | (c)(185).
26.11.32.17 | Violations | 8/18/03 | 12/9/03, 68 FR 68523 | (c)(185).
26.11.32.18 | Surplus Reductions and Surplus Trading | 8/18/03 | 12/9/03, 68 FR 68523 | (c)(185).
26.11.32.19 | Limited-Use Surplus Reduction Credits for Early Reformulations of ACP Products | 8/18/03 | 12/9/03, 68 FR 68523 | (c)(185).
26.11.32.20 | Reconciliation of Shortfalls | 8/18/03 | 12/9/03, 68 FR 68523 | (c)(185).
26.11.32.21 | Modifications to an ACP | 8/18/03 | 12/9/03, 68 FR 68523 | (c)(185).
26.11.32.22 | Cancellation of an ACP | 8/18/03 | 12/9/03, 68 FR 68523 | (c)(185).
26.11.32.23 | Transfer of an ACP | 8/18/03 | 12/9/03, 68 FR 68523 | (c)(185).
26.11.33 Architectural Coatings
26.11.33.01 | Applicability and Exemptions | 3/29/04 | 5/12/05, 70 FR 24979
26.11.33.02 | Test Methods—Incorporation by Reference | 3/29/04 | 5/12/05, 70 FR 24979
26.11.33.03 | Definitions | 3/29/04 | 5/12/05, 70 FR 24979
26.11.33.04 | General Standard—VOC Content Limits | 3/29/04 | 5/12/05, 70 FR 24979
26.11.33.05 | VOC Content Limits | 3/29/04 | 5/12/05, 70 FR 24979 |
26.11.33.06 | Most Restrictive VOC Limit | 2/28/05 | 10/19/05, 70 FR 60740 | Addition of sections B(15) through B(19).
26.11.33.07 | Painting Restrictions | 3/29/04 | 5/12/05, 70 FR 24979 |
26.11.33.08 | Thinning | 3/29/04 | 5/12/05, 70 FR 24979 |
26.11.33.09 | Rust Preventive Coatings | 3/29/04 | 5/12/05, 70 FR 24979 |
26.11.33.10 | Coatings Not Listed in Regulation .05 | 2/28/05 | 10/19/05, 70 FR 60740 |
26.11.33.11 | Lacquers | 3/29/04 | 5/12/05, 70 FR 24979 |
26.11.33.12 | Container Labeling Requirements | 2/28/05 | 10/19/05, 70 FR 60740 | Deleted section K.
26.11.33.13 | Recordkeeping Requirements | 2/28/05 | 10/19/05, 70 FR 60740 |
26.11.33.14 | Compliance Provisions and Test Methods | 3/29/04 | 5/12/05, 70 FR 24979 |
11.14.08 Vehicle Emissions Inspection Program
11.14.08.01 | Title | 1/2/95 | 10/29/99, 64 FR 58340 | (c)(144).
11.14.08.02 | Definitions | 1/2/95 10/19/98 | 10/29/99, 64 FR 58340 | (c)(144).
11.14.08.03 | Applicability | 6/10/02 | 1/16/03, 68 FR 2208 | (c)(179).
11.14.08.04 | Exemptions | 1/2/95 | 10/29/99, 64 FR 58340 | (c)(144).
11.14.08.05 | Schedule of the Program | 1/2/95 12/16/96 | 10/29/99, 64 FR 58340 | (c)(144).
11.14.08.06 | Certificates | 6/10/02 | 1/16/03, 68 FR 2208 | (c)(179).
11.14.08.07 | Extensions | 1/2/95 10/19/98 | 10/29/99, 64 FR 58340 | (c)(144).
11.14.08.08 | Enforcement | 1/2/95 | 10/29/99, 64 FR 58340 | (c)(144).
11.14.08.09 | Inspection Standards | 6/10/02 | 1/16/03, 68 FR 2208 | (c)(179).
11.14.08.10 | General Requirements for Inspection and Preparation for Inspection | 1/2/95 12/16/96 10/19/98 | 10/29/99, 64 FR 58340 | (c)(144).
11.14.08.11 | Idle Exhaust Emissions Test and Equipment Checks | 10/18/98 | 10/29/99, 64 FR 58340 | (c)(144).
11.14.08.11-1 | Transient Exhaust Emissions Test and Evaporative Purge Test Sequence | 12/16/96 10/19/98 | 10/29/99, 64 FR 58340 | (c)(144).
11.14.08.12 | Evaporative Integrity Test, Gas Cap Leak Test, and On-Board Diagnostics Interrogation Procedures | 6/10/02 | 1/16/03, 68 FR 2208 | (c)(179).
11.14.08.13 | Failed Vehicle and Reinspection Procedures | 1/2/95 | 10/29/99, 64 FR 58340 | (c)(144).
11.14.08.14 | Dynamometer System Specifications | 1/2/95 | 10/29/99, 64 FR 58340 | (c)(144).
11.14.08.15 | Constant Volume Sampler, Analysis System, and Inspector Control Specifications | 1/2/95 10/19/98 | 10/29/99, 64 FR 58340 | (c)(144).
11.14.08.16 | Evaporative Test Equipment, Gas Cap Leak Test Equipment, and on-Board Diagnostics Interrogation Equipment Specifications | 6/10/02 | 1/16/03, 68 FR 2208 | (c)(179).
11.14.08.17 | Quality Assurance and Maintenance-General Requirements | 1/2/95 | 10/29/99, 64 FR 58340 | (c)(144).
11.14.08.18 | Test Assurance Procedures | 1/2/95 | 10/29/99, 64 FR 58340 | (c)(144).
11.14.08.19 | Dynamometer Periodic Quality Assurance Checks | 1/2/95 | 10/29/99, 64 FR 58340 | (c)(144).
11.14.08.20 | Constant Volume Sampler Periodic Quality Assurance Checks | 1/2/95 | 10/29/99, 64 FR 58340 | (c)(144).
11.14.08.21 | Analysis System Periodic Quality Assurance Checks | 1/2/95 | 10/29/99, 64 FR 58340 | (c)(144).
11.14.08.22 | Evaporative Test Equipment, Gas Cap Leak Test Equipment and On-board Diagnostics Interrogation Equipment Periodic Quality Assurance Checks | 1/2/95 10/19/98 | 10/29/99, 64 FR 58340 | (c)(144).
11.14.08.23 | Overall System Performance Quality Assurance | 1/2/95 | 10/29/99, 64 FR 58340 | (c)(144).
11.14.08.24 | Control Charts | 1/2/95 | 10/29/99, 64 FR 58340 | (c)(144).
11.14.08.25 | Gas Specifications | 1/2/95 | 10/29/99, 64 FR 58340 | (c)(144).
11.14.08.26 | Vehicle Emissions Inspection Station | 1/2/95 | 10/29/99, 64 FR 58340 | (c)(144).
11.14.08.27 | Technician's Vehicle Report | 1/2/95 10/19/98 | 10/29/99, 64 FR 58340 | (c)(144).
11.14.08.28 | Feedback Reports | 1/2/95 10/19/98 | 10/29/99, 64 FR 58340 | (c)(144).
11.14.08.29 | Certified Emissions Technicians | 1/2/95 12/16/96 | 10/29/99, 64 FR 58340 | (c)(144).
11.14.08.30 | Certified Emissions Repair Facility | 1/2/95 12/16/96 | 10/29/99, 64 FR 58340 | (c)(144).
11.14.08.31 | On-Highway Emissions Test | 1/2/95 | 10/29/99, 64 FR 58340 | (c)(144).
11.14.08.32 | Fleet Inspection Station | 1/2/95 12/16/96 10/19/98 | 10/29/99, 64 FR 58340 | (c)(144).
11.14.08.33 | Fleet Inspection Standards | 1/2/95 | 10/29/99, 64 FR 58340 | (c)(144).
11.14.08.34 | Fleet Inspection and Reinspection Methods | 1/2/95 | 10/29/99, 64 FR 58340 | (c)(144).
11.14.08.35 | Fleet Equipment and Quality Assurance Requirements | 1/2/95 | 10/29/99, 64 FR 58340 | (c)(144).
11.14.08.36 | Fleet Personnel Requirements | 1/2/95 | 10/29/99, 64 FR 58340 | (c)(144).
11.14.08.37 | Fleet Calibration Gas Specifications and Standard Reference Methods | 1/2/95 | 10/29/99, 64 FR 58340 | (c)(144).
11.14.08.38 | Fleet Recordkeeping Requirements | 1/2/95 | 10/29/99, 64 FR 58340 | (c)(144).
11.14.08.39 | Fleet Fees | 1/2/95 | 10/29/99, 64 FR 58340 | (c)(144).
11.14.08.40 | Fleet License Suspension and Revocation | 1/2/95 | 10/29/99, 64 FR 58340 | (c)(144).
11.14.08.41 | Audits | 1/2/95 | 10/29/99, 64 FR 58340 | (c)(144).
11.14.08.42 | Fleet Inspection After 1998 | 1/2/95 2/16/96 10/19/98 | 10/29/99, 64 FR 58340 | (c)(144).
03.03.05 Motor Fuel Inspection [Contingency SIP Measure]
03.03.05.01 03.03.05.01-1 03.03.05.02-1 | Definitions Standard Specifications for Gasoline Other Motor Vehicle Fuels | 12/18/95 12/18/95 10/26/92 | 1/30/96, 61 FR 2982 1/30/96, 61 FR 2982 6/10/94, 58 FR 29957 | (c)(101)(i)(B)(4); Approved as a contingency SIP measure as part of the CO Maintenance Plans for Baltimore and DC. [(c)(117) and (c)(118)].
03.03.05.05 | Labeling of Pumps | 12/18/95 | 1/30/96, 61 FR 2982
03.03.05.08 | Samples and Test Tolerance | 10/26/92 | 6/10/94, 58 FR 29957
03.03.05.15 | Commingled Products | 10/26/92 | 6/10/94, 58 FR 29957
03.03.06 Emissions Control Compliance [Contingency SIP Measure]
03.03.06.01 03.03.06.02 03.03.06.03 | Definitions Vapor Pressure Determination Oxygen Content Determination | 12/18/95 10/26/92 12/18/95 | 1/30/96, 61 FR 2982 6/10/94, 58 FR 29957 1/30/96, 61 FR 2982 | (c)(101)(i)(B)(5); Approved as a contingency SIP measure as part of the CO Maintenance Plans for Baltimore and DC. [(c)(117) and (c)(118)].
03.03.06.04 | Registration | 10/26/92 | 6/10/94, 58 FR 29957
03.03.06.05 | Recordkeeping | 10/26/92 | 6/10/94, 58 FR 29957
03.03.06.06 | Transfer Documentation | 12/18/95 | 1/30/96, 61 FR 2982
TM Technical Memoranda
TM81-04 | Procedures for Observing and Evaluating Visible Emissions from Stationary Sources | 5/1/81 | 6/18/82, 47 FR 26381 | (c)(67).
TM83-05 | Stack Test Methods for Stationary Sources | 6/1/83 | 2/23/85, 50 FR 7595 | (c)(80).
TM91-01 [Except Methods 1004, 1004A through I, 1010] | Test Methods and Equipment Specifications for Stationary Sources | 2/15/93 | 9/7/94, 59 FR 46105 | (c)(105)(i)(B)(1).
¹ Recodified 8/1/88.

* * * * *

[FR Doc. 06-385 Filed 2-1-06; 8:45 am]

BILLING CODE 6560-50-P